PRESIDIO TRUST

Notice of Public Meeting

AGENCY: The Presidio Trust.

ACTION: Notice of public meeting.

SUMMARY: In accordance with § 103(c)(6) of the Presidio Trust Act, 16 U.S.C. 460bb note, Title I of Public Law 104-333, 110 Stat. 4097, and in accordance with the Presidio Trust's bylaws, notice is hereby given that a public meeting of the Presidio Trust Board of Directors will be held from 9:00 a.m. to 11:00 a.m. on Wednesday, February 21, 2001, at the Log Cabin, Storey Avenue, Presidio of San Francisco, California. The Presidio Trust was created by Congress in 1996 to manage approximately eighty percent of the former U.S. Army base known as the Presidio, in San Francisco, California.

The purposes of this meeting are to: (1) Approve the minutes of previous Board meetings; (2) Receive a staff report and take action regarding the proposed Mountain Lake Enhancement Plan; (3) Receive staff reports regarding energy conservation projects, the establishment of a community center, and the “Unseen Treasures” exhibition; and (4) receive public comment in accordance with the Trust's Public Outreach Policy.

Time: The meeting will be held from 9:00 a.m. to 11:00 p.m. on Wednesday, February 21, 2001.

ADDRESSES: The meeting will be held at the Log Cabin, Storey Avenue, Presidio of San Francisco.

FOR FURTHER INFORMATION CONTACT: Craig Middleton, Deputy Director for Operations and Governmental Affairs, the Presidio Trust, 34 Graham Street, P.O. Box 29052, San Francisco, California 94129-0052, Telephone: (415) 561-5300.

Dated: January 31, 2001.
Karen A. Cook,
General Counsel.

[FR Doc. 01-3021 Filed 2-5-01; 8:45 am]

BILLING CODE 4310-4R-U